ENVIRONMENTAL PROTECTION AGENCY

[IN 200; FRL-7002-5]

Notice of Prevention of Significant Deterioration (PSD) Final Determination for Steel Dynamics, Inc., Whitley County, IN

AGENCY: Environmental Protection Agency, (EPA).

ACTION: Notice of final action.

SUMMARY: The purpose of this document is to announce that on April 23, 2001, the EPA Environmental Appeals Board (Board) denied a petition for review of a permit for the proposed Steel Dynamics, Inc. steel mill in Whitley County, Indiana, pursuant to the Prevention of Significant Deterioration (PSD) regulations under 40 CFR 52.21.

DATES: The effective date for the Board's decision is April 23, 2001.

FOR FURTHER INFORMATION CONTACT: Kushal Som, Air and Radiation Division, U.S. Environmental Protection Agency, Region 5, at (312) 353-5792.

SUPPLEMENTARY INFORMATION: On July 7, 1999, the Indiana Department of Environmental Management (IDEM) issued a Federal prevention of significant deterioration (PSD) permit, pursuant to Section 165 of the Clean Air Act (CAA), 42 U.S.C. 7475, to Steel Dynamics, Inc. for construction and operation of a new steel mill in Whitley County, Indiana. The United Association of Plumbers and Steamfitters, Local Union 166, and Citizens Organized Watch (COW) subsequently appealed IDEM's decision to the Board. On June 22, 2000, the Board issued an opinion and order (see In re Steel Dynamics, Inc., PSD Appeal Nos. 99-4 and 99-5, 9 E.A.D. __ (EAB, June 22, 2000), denying review in part and granting review of several issues. The Board remanded the permit to IDEM for reconsideration of three issues: the best available control technology (BACT) determination for nitrogen oxide emissions from the proposed mill's reheat furnace; the form of the BACT limitations selected for nitrogen oxide and carbon monoxide emissions from the mill's electric arc furnace; and the analysis of the mill's potential to emit lead.

On September 29, 2000, following reconsideration of the remanded issues, IDEM issued a revised draft permit for public comment. On January 10, 2001, following public comment and a public hearing, IDEM issued a revised final permit. On February 14, 2001, COW filed a petition for review of the revised permit. On April 23, 2001, the EAB issued an order, denying COW's petition for review.

Pursuant to 40 CFR 124.19(f)(2), for purposes of judicial review, final Agency action occurs when a final PSD permit is issued and Agency review procedures are exhausted. This notice, published today in the Federal Register, constitutes notice of the final Agency action denying review of the PSD permit. If available, judicial review of these determinations under Section 307(b)(1) of the CAA may be sought only by filing of a petition for review in the United States Court of Appeals for the appropriate circuit within 60 days from the date on which this notice of final Agency action appears in the Federal Register. Under section 307(b)(2) of the CAA, final Agency action with respect to which review could be obtained as described above, shall not be subject to later judicial review in civil or criminal proceedings for enforcement.

Dated: June 8, 2001.
David A. Ullrich,
Acting Regional Administrator, Region 5.

[FR Doc. 01-16117 Filed 6-26-01; 8:45 am]

BILLING CODE 6560-50-P